DEPARTMENT OF COMMERCE

National Oceanic and Atmospheric Administration

[I.D. 090706C]

Meeting of Atlantic Regional Fishery Management Council Chairs and Executive Directors

AGENCY: National Marine Fisheries Service (NMFS), National Oceanic and Atmospheric Administration (NOAA), Commerce.

ACTION: Notice of public meeting.

SUMMARY: NMFS will host a half-day meeting with the Atlantic Regional Fishery Management Council Chairs and Executive Directors in October 2006. The intent of this meeting is to discuss science, coordination, and communication issues related to Atlantic Highly Migratory Species (HMS).

DATES: The meeting with the Atlantic Regional Fishery Management Council Chairs and Executive Directors will be held from 8:30 a.m. to 12 p.m. on Thursday, October 5, 2006.

ADDRESSES: The meetings will be held at the Hilton Mark Center, 5000 Seminary Road, Alexandria, VA 22311; phone: 703-845-1010.

FOR FURTHER INFORMATION CONTACT: Othel Freeman or Chris Rilling at 301-713-2347.

SUPPLEMENTARY INFORMATION: The meeting with the Atlantic CCED will focus on science, coordination, and communication issues between NMFS and the Atlantic Regional Fishery Management Councils (New England, Mid-Atlantic, South Atlantic, Gulf of Mexico, and Caribbean Fishery Management Councils) regarding Atlantic HMS.

Special Accommodations

This meeting is physically accessible to people with disabilities. Requests for sign language interpretation or other auxiliary aids should be directed to Othel Freeman or Chris Rilling at (301) 713-2347, at least 7 days prior to the meeting.

Authority: 16 U.S.C. 971 et seq. and 1801 et seq.

Dated: September 13, 2006.
Alan D. Risenhoover,
Director, Office of Sustainable Fisheries, National Marine Fisheries Service.

[FR Doc. E6-15540 Filed 9-18-06; 8:45 am]

BILLING CODE 3510-22-S